FEDERAL COMMUNICATIONS COMMISSION

Conflict of Interest Waiver

AGENCY: Federal Communications Commission.

ACTION: Notice of waiver of section 4(b) of the Communications Act of 1934.

SUMMARY: Notice is hereby given that the Commission granted a waiver of the financial relationship prohibition contained in section 4(b) of the Communications Act of 1924, as amended, 47 U.S.C. 154(b), for Mr. Theodore Marcus, Attorney Advisor, Enforcement Bureau, FCC, to retain time-limited financial interests in AT&T through a last distribution in March 2014 and a reasonable time thereafter for divestiture, not to exceed thirty (30) days. During that period, Mr. Marcus will recuse himself from participation in any matter involving or affecting AT&T in accord with section 208(a) of Title 18 of the United States Code, 18 U.S.C. 208(a), and the Office of Government Ethics implementing regulations, 5 CFR, part 2640.

DATES: Effective July 1, 2013.

FOR FURTHER INFORMATION CONTACT: Patrick J. Carney, Office of General Counsel, (202) 418-1720.

SUPPLEMENTARY INFORMATION: This notice is in accord with section 4(b)(2)(B)(ii) of the Communications Act of 1934, as amended. 47 U.S.C. 154(b)(2)(B)(ii).

Federal Communications Commission.
Patrick J. Carney,
Assistant General Counsel and Alternate Designated Agency Ethics Official.

[FR Doc. 2013-19599 Filed 8-12-13; 8:45 am]

BILLING CODE 6712-01-P